ENVIRONMENTAL PROTECTION AGENCY

[EPA-HQ-OPP-2003-0348; FRL-8059-7]

Propanil; Notice of Availability of the Propanil Amendment to the Reregistration Eligibility Decision (RED) and Completion of the Comment Period for the Propanil RED.

AGENCY: Environmental Protection Agency (EPA).

ACTION: Notice.

SUMMARY: This notice announces the availability of the amendment to the Propanil Reregistration Eligibility Decision (RED) and completion of the comment period for the propanil RED. The Agency has reviewed the public comments submitted and has responded to those that relate specifically to the propanil RED. As a result of its review of the public comments and review of additional data submitted by the Propanil Task Force, the Agency is amending the Propanil RED, where appropriate. EPA develops reregistration decisions pursuant to the Federal Insecticide, Fungicide, and Rodenticide Act (FIFRA), and tolerance reassessment decisions under provisions of the Federal Food, Drug and Cosmetic Act (FFDCA). Through these programs, EPA ensures that all pesticides meet current health and safety standards.

FOR FURTHER INFORMATION CONTACT: Cathryn O'Connell, Special Review and Reregistration Division (7508P), Office of Pesticide Programs, Environmental Protection Agency, 1200 Pennsylvania Ave., NW., Washington, DC 20460-0001; telephone number: (703) 308-0136; fax number: (703) 308-8041; e-mail address: oconnell.cathryn@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2003-0348. Publicly available docket materials are available either electronically at http://www.regulations.gov or in hard copy at the OPP Regulatory Public Docket in Rom. S-4400, One Potomac Yard (South Building), 2777 S. Crystal Drive, Arlington, VA. This Docket Facility is open from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action is the Agency Taking?

This notice announces the availability of the amendment to the propanil RED and completion of the comment period for the propanil RED. The propanil RED document was signed on September 30, 2003. A public comment period for the Propanil RED (and the supporting assessments) was conducted from February 25, 2004 to April 26, 2004. The risk assessments, benefit assessment, and public comments can be found on the Federal docket system, available at regulations.gov, docket ID number EPA-HQ-OPP-2003-0348. The Agency has reviewed the public comments submitted and has responded to those that relate specifically to the propanil RED. The Agencys responses are available for viewing under the same docket ID number on the regulations.gov system. As a result of its review of the public comments and review of additional data submitted by the Propanil Task Force, the Agency is amending the propanil RED, where appropriate. These revisions include label changes and an updated Appendix B: Data Supporting Guideline Requirements for the Reregisrtaion of Propanil. The label changes related to dry flowable closed systems are contingent on the outcome of exposure data that are due in December 2006. EPA considers the amendment to the propanil RED and the propanil RED final decisions as of the publication date of this notice.

B. What is the Agency's Authority for Taking this Action?

Section 4(g)(2) of FIFRA, as amended, directs that, after submission of all data concerning a pesticide active ingredient, “the Administrator shall determine whether pesticides containing such active ingredient are eligible for reregistration,” before calling in product specific data on individual end-use products, and either reregistering products or taking other “appropriate regulatory action.”

List of Subjects

Environmental protection, Pesticides and pests.

Dated: July 13, 2006.
Debra Edwards,
Director, Special Review and Reregistration Division, Office of Pesticide Programs.

[FR Doc. E6-11714 Filed 7-25-06; 8:45 am]

BILLING CODE 6560-50-S